DEPARTMENT OF JUSTICE

Notice of Lodging of Consent Decree Under the Lead-Based Paint Hazard Act

Notice is hereby given that on December 30, 2002, a proposed consent decree in United States v. Joseph DeLuca, Civil Action No. CA02-546T, was lodged with the United States District Court for the District of Rhode Island.

The consent decree settles claims against Joseph DeLuca as owner of twelve residential apartment buildings in Providence, Rhode Island, which were brought on behalf of the Department of Housing and Urban Development and the Environmental Protection Agency under the Residential Lead-Based Paint Hazard Reduction Act 42 U.S.C. 4851 et seq. (“Lead Hazard Reduction Act”). The United States alleged in its complaint that the defendant failed to provide information to tenants concerning lead-based paint hazards, and failed to disclose to tenants the presence of any known lead-based paint or any known lead-based paint hazards.

Under the consent decree, the defendant has agreed to provide the required notice and disclosures, to perform inspections at the buildings for the presence of lead-based paint, to perform lead-based paint abatement, and to pay the United States an administrative penalty in the amount of $13,090.00. The defendant owns 12 buildings with 32 residential units.

The Department of Justice will receive for a period of thirty (30) days from the date of this publication comments relating to the consent decrees. Comments should be addressed to the Assistant Attorney General of the Environment and Natural Resources Division, Department of Justice, Washington, DC 20530, and should refer to United States v. Joseph DeLuca, D.J. # 90-5-1-1-07649.

The proposed consent decree may be examined at the Department of Housing and Urban Development, Office of Lead Hazard, Control, attention: Matthew E. Ammon, 490 L'Enfant Plaza SW., Room 3206, Washington, DC 20410, (202) 755-1785; at the office of the United States Attorney for the District of Rhode Island, 50 Kennedy Plaza, 8th Floor, Providence, Rhode Island 02903; and at U.S. EPA Region 1, One Congress Street, Boston, MA 02114. A copy of the proposed consent decree may also be obtained by mail from the Department of Justice Consent Decree Library, PO Box 7611, Washington, DC 20044, or by faxing a request to Tonia Fleetwood, fax no. (202) 514-0097, phone confirmation number (202) 514-1547. In requesting a copy please refer to the referenced case and enclose a check in the amount of $7.00 (25 cents per page reproduction costs), payable to the U.S. Treasury.

Karen Dworkin,
Assistant Chief, Environmental Enforcement Section, Environment and Natural Resources Division.

[FR Doc. 03-899 Filed 1-15-03; 8:45 am]

BILLING CODE 4410-15-M